NATIONAL SCIENCE FOUNDATION

Notice of Meeting; NSF Synchrotron Subcommittee of the Advisory Committee for Mathematical and Physical Sciences

The National Science Foundation (NSF) announces the following meeting.

Name: NSF Synchrotron Subcommittee Workshop (66)

Date and Time: October 8, 2013 8:00 a.m.—5:00 p.m.; October 9, 2013 8:00 a.m.—11:30 a.m.

PLACE: Residence Inn, 650 N. Quincy St., Arlington, VA 22203.

Type of Meeting: Open.

Contact Person: Dr. Mary Galvin, Division Director, Division of Materials Research, Room 1065, National Science Foundation, 4201 Wilson Boulevard, Arlington, VA 22230, Telephone: (703) 292-8562.

Purpose of Meeting: To gather information needed to advise the Division of Materials Research on its facilities portfolio including the role it and NSF should play in synchrotron science.

Agenda:

Tuesday, October 8, 2013

8:45 a.m.—10:15 a.m.: Overview

1. Summary of NSF Mat 2022 report findings—Murray Gibson, Northeastern University

2. Importance of materials research facilities for US research and economy, including the Department of Energy (DOE) role in materials facilities—Patricia Dehmer, DOE

3. Biology/biomaterials talk—importance of materials research facilities—Pupa Gilbert, University of Wisconsin

4. Nanoscience/technology talk—importance of materials research facilities—Stephen Campbell, University of Minnesota

10:15 a.m.—10:30 a.m.: Coffee break

10:30 a.m.—12:00 p.m.: DMR facilities and materials research needs, funded major facilities past and present

5. NSF DMR funded materials facilities, past accomplishments and future potential*

a. Cornell High Energy Synchrotron Source (CHESS)—Joel Brock, Cornell University

b. National High Magnetic Field Laboratory (NHFML)—Gregory Boebinger, Florida State University

12:00—1:00 p.m.: Lunch

1:00 p.m.—2:30 p.m.: DMR funded major facilities past and present

6. NSF DMR funded materials facilities, past accomplishments and future potential

a. National Institute of Standards and Technology (NIST) partnership—Rob Dimeo, NIST

b. Synchrotron Radiation Center (SRC) at University of Wisconsin-Madison—Tai Chiang, University of Illinois at Urbana-Champaign General discussion

2:30 p.m.—3:00 p.m.: Coffee Break

3:00 p.m.—5:00 p.m.: Novel materials facilities concepts and opportunities and how they are currently funded in the US

7. Future of higher harmonic light sources and their applications in materials science—Margaret Murnane, Joint Institute for Laboratory Astrophysics (JILA)

8. Potential new light sources—overview of field, especially mid-scale accelerator based light sources and compact light sources—Chan Joshi, University of California at Los Angeles

9. Theory and Simulation of materials—what facilities or infrastructure is needed to advance the field faster—Peter Voorhees, Northwestern University

5:00 p.m.—5:45 p.m.: Community input and general open discussion

Wednesday, October 9, 2013

8:00 a.m.—10:30 a.m.: International materials facilities developments

10. International picture—new developments in light sources—Yves Petroff, Brazilian Synchrotron Light Laboratory (LNLS)

11. International picture—new developments in Transmission Electron Microscope (TEM) facilities—Dorte Jensen, Riso and Nigel Browning, Pacific Northwest National Laboratory (PNNL)

12. International picture—materials synthesis and characterization—Hard Materials—Charles Ahn, Yale University

13. International picture—materials synthesis and characterization—Soft Materials—TBD

10:30—11:30 a.m.: Community input and general open discussion

Dated: September 19, 2013.
Susanne Bolton,
Committee Management Officer.

[FR Doc. 2013-23139 Filed 9-23-13; 8:45 am]

BILLING CODE 7555-01-P